DEPARTMENT OF THE TREASURY

Submission for OMB Review; Comment Request

July 30, 2002.

The Department of Treasury has submitted the following public information collection requirement(s) to OMB for review and clearance under the Paperwork Reduction Act of 1995, Public Law 104-13. Copies of the submission(s) may be obtained by calling the Treasury Bureau Clearance Officer listed. Comments regarding this information collection should be addressed to the OMB reviewer listed and to the Treasury Department Clearance Officer, Department of the Treasury, Room 2110, 1425 New York Avenue, NW., Washington, DC 20220.

DATES: Written comments should be received on or before September 27, 2002 to be assured of consideration.

Departmental Offices/Community Development Financial Institutions (CDFI) Fund

OMB Number: New.

Form Number: CDFI Form 0024.

Type of Review: New collection.

Title: Secondary Market Survey of Community Development Financial Institutions (CDFIs).

Description: The CDFI Fund through a contract with Abt Associates, Inc., is conducting a study of the need for, and feasibility of, developing a secondary market for loans made by CDFIs. A key component of the feasibility study is gathering data through a survey on loans made by CDFIs to determine whether it would be feasible for such loans to be sold in a secondary market and the potential size of the market and to understand the projected capital needs of these institutions to assess whether a secondary market would be beneficial to them.

Respondents: Business or other for-profit, Not-for-profit institutions.

Estimated Number of Respondents: 325.

Estimated Burden Hours Per Respondent: 5 hours.

Frequency of Response: Other (one-time collection).

Estimated Total Reporting Burden: 1,625 hours.

Clearance Officer: Lois K. Holland (202) 622-1563, Departmental Offices, Room 2110, 1425 New York Avenue, NW., Washington, DC 20220.

OMB Reviewer: Joseph F. Lackey, Jr. (202) 395-7316, Office of Management and Budget, Room 10235, New Executive Office Building, Washington, DC 20503.

Lois K. Holland,
Departmental Reports, Management Officer.

[FR Doc. 02-21932 Filed 8-27-02; 8:45 am]

BILLING CODE 4811-16-P